DEPARTMENT OF VETERANS AFFAIRS

Advisory Committee on Cemeteries and Memorials, Notice of Meeting

The Department of Veterans Affairs (VA) gives notice under the Federal Advisory Committee Act, 5 U.S.C. ch. 10, that the annual meeting of the Advisory Committee on Cemeteries and Memorials will be held May 8-9, 2024. The meeting sessions will begin and end as follows:

Date(s): | Time(s): | Location(s) | Open to the public
May 8, 2024 | 9:00 a.m. to 11:00 a.m. Eastern Standard Time (EST) | Andersonville National Cemetery, 496 Cemetery Road, Andersonville, GA 31711 | Yes.
May 8, 2024 | 2:00 p.m. to 2:45 p.m. EST | Fort Moore Post Cemetery, 64-66 Custer Road, Columbus, GA 31905 | No.
May 8, 2024 | 3:30 p.m. to 4:30 p.m. EST | Fort Mitchell National Cemetery, 553 Highway 165, Fort Mitchell, AL 36856 | Yes.
May 9, 2024 | 9:30 a.m. to 4:30 p.m. EST | Marriott Columbus, 800 Front Avenue, Columbus, GA 31901 | Yes.

Sessions are open to the public, except when the Committee is conducting a tour of the Fort Moore Post Cemetery. The Fort Moore Post Cemetery tour has enhanced opportunities for interactions that would implicate privacy and personal information disclosure concerns. Tours of VA facilities are generally closed when it is necessary to protect privacy and personal information. 5 U.S.C. 552b(c)(6). Accordingly this tour is a closed session of the Committee.

The purpose of the Committee is to advise the Secretary of Veterans Affairs on the administration of national cemeteries, soldiers' lots and plots, the selection of new national cemetery sites, the erection of appropriate memorials, and the adequacy of Federal burial benefits. The Committee makes recommendations to the Secretary regarding such activities.

On Wednesday, May 8, 2024, the Committee will convene an open session from 9:00 a.m. to 11:00 a.m. EST with tours to Andersonville National Cemetery and Fort Mitchell National Cemetery. The Committee will convene a closed session from 2:00 p.m. to 2:45 p.m. EST. The Committee will reconvene in an open session from 3:30 p.m. to 4:30 p.m. EST at the Fort Mitchell National Cemetery. Transportation will not be provided for the public.

On Thursday, May 9, 2024, the Committee will convene an open session from 9:30 a.m. to 4:30 p.m. EST. The agenda will include remarks by National Cemetery Administration leadership, and briefings from the Office of Cemetery Operations and Field Programs, Office of Engagement and Memorial Innovation, as well as the status of committee recommendations, public comments, and open discussion.

Any member of the public seeking additional information should contact Ms. Faith Hopkins, Designated Federal Officer, at 202-603-4499. Please leave a voice mail message. The Committee will also accept written comments. Comments may be transmitted electronically to the Committee at faith.hopkins@va.gov. In the public's communications with the Committee, the writers must identify themselves and state the organizations, associations, or persons they represent.

Any member of the public who wishes to attend the meeting virtually on May 9, 2024, may use the following Cisco Webex Meeting Link:

Join On Your Computer Or Mobile App: https://veteransaffairs.webex.com/veteransaffairs/j.php?MTID=mfa919558f3ede94e324627e9f21022ec.

Meeting number: 2824 163 0470

Password: GYpUMKK$648

Join by phone: 404-397-1596

Access code: 2824 163 0470

Dated: March 25, 2024.
Jelessa M. Burney,
Federal Advisory Committee Management Officer.

[FR Doc. 2024-06646 Filed 3-27-24; 8:45 am]

BILLING CODE P